DEPARTMENT OF TRANSPORTATION

Federal Aviation Administration.

Advisory Circular 34-1, Fuel Venting and Exhaust Emissions Requirements for Turbine Engine Powered Airplanes

AGENCY: Federal Aviation Administration.

ACTION: Notice.

SUMMARY: This announces the availability of Advisory Circular AC 34-1, Fuel Venting and Exhaust Emissions Requirements for Turbine Engine Powered Airplanes. Copies may be requested at the address below. A Notice of Availability of the Draft AC 34-1 was issued in the Federal Register, dated September 29, 1998. Comments received on the Draft AC have been considered and revisions have been incorporated. These revisions include comments received during a workshop held with the FAA field personnel and Designated Engineering Representatives, and supportive comments, primarily of an editorial nature, from Transport Canada, the United Kingdom Civil Aviation Authority, and the French Director General of Civil Aviation.

ADDRESSES: Copies of FAA AC 34-1 may be requested from: Emissions Division, AEE-300, Room 902W, Office of Environment and Energy, Federal Aviation Administration, 800 Independence Ave., SW., Washington, DC 20591.

FOR FURTHER INFORMATION CONTACT: Edward McQueen, Emissions Division, AEE-300, Office of Environment and Energy, 800 Independence Ave., S.W., Washington, DC 20591; telephone (202) 267-3560; E-mail: edward.mcqueen@faa.gov

SUPPLEMENTARY INFORMATION: Advisory Circular (AC) 34-1, Fuel Venting and Exhaust Emission Requirements for Turbine Engine Powered Airplanes, has been written to provide section-by-section guidance on 14 CFR Part 34. The AC is intended to provide a better understanding of the provisions of the Part 34, and to facilitate standardized implementation of Part 34 throughout the aviation industry. The AC contains information concerning the standards and requirements for aircraft fuel venting and engine emission certification, and presents explanatory information and guidance. The information contained in the AC also sets forth acceptable means, but not the sole means, by which compliance may be shown with the requirements of Part 34.

In addition to the section-by-section explanations, the AC includes three chapters that explain specific appendices from the International Civil Aviation Organization (ICAO), Annex 16, Volume II, Aircraft Engine Emissions. Since Annex 16 is specifically referenced in Part 34, these chapters are included to make the AC a more complete reference source.

The ICAO appendices deal with detailed technical issues regarding instrumentation and measurement techniques and, as such, are relatively complex. Thus, they have been kept distinct from the rest of the AC as separate chapters. Typically, only those readers who are interested in specific equations and/or details regarding measurement techniques will need to refer to these sections.

A Notice of Availability of the Draft AC 34-1 was issued in the Federal Register, dated September 29, 1998, Volume 63, Number 188, Page 51990. Comments received on the Draft AC have been considered and revisions have been incorporated into AC 34-1. These revisions include comments received during a workshop held with the FAA field personnel and Designated Engineering Representatives, and supportive comments, primarily of an editorial nature, from Transport Canada, the United Kingdom Civil Aviation Authority, and the French Director General of Civil Aviation.

AC 34-1 continues to be developed by the FAA, including coordination with the European Joint Aviation Authorities (JAA) and other international authorities. The FAA expects to publish revisions periodically.

Issued in Washington, DC on July 17, 2000.
James D. Erickson,
Director of Environment and Energy.

[FR Doc. 00-19027 Filed 7-26-00; 8:45 am]

BILLING CODE 4910-13-P